DEPARTMENT OF COMMERCE

National Oceanic and Atmospheric Administration

RIN 0648-XA826

Endangered Species; File No. 16174

AGENCY: National Marine Fisheries Service (NMFS), National Oceanic and Atmospheric Administration (NOAA), Commerce.

ACTION: Issuance of permit.

SUMMARY: Notice is hereby given that Michael Salmon, Ph.D., Florida Atlantic University, 777 Glades Road, P.O. Box 3091, Boca Raton, FL 33431, has been issued a permit to take green sea turtles (Chelonia mydas) for the purposes of scientific research.

ADDRESSES: The permit and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Ave. South, St. Petersburg, FL 33701; phone (727) 824-5312; fax (727) 824-5309.

FOR FURTHER INFORMATION CONTACT: Colette Cairns or Amy Hapeman, (301) 427-8401.

SUPPLEMENTARY INFORMATION: On April 5, 2011, notice was published in the Federal Register (76 FR 18725) that a request for a scientific research permit to take green sea turtles had been submitted by the above-named individual. The requested permit has been issued under the authority of the Endangered Species Act of 1973, as amended (ESA; 16 U.S.C. 1531 et seq.) and the regulations governing the taking, importing, and exporting of endangered and threatened species (50 CFR parts 222-226).

The five-year permit authorizes Dr. Salmon to take juvenile green sea turtles to characterize abundance and distribution in nearshore developmental habitats off the East coast of southern Florida. Dr. Salmon is authorized to capture by hand, transport to shore, measure, weigh, photograph, passive integrated transponder and flipper tag, temporarily mark the carapace, satellite tag, hold overnight, transport to site of capture, release, and recapture turtles at the conclusion of the study for gear removal up to 30 green sea turtles annually. No mortalities are authorized under the permit. These efforts would aid in the development and refinement of management efforts to recover this species.

Issuance of this permit, as required by the ESA, was based on a finding that such permit (1) was applied for in good faith, (2) will not operate to the disadvantage of such endangered or threatened species, and (3) is consistent with the purposes and policies set forth in section 2 of the ESA.

Dated: November 14, 2011.
P. Michael Payne,
Chief, Permits and Conservation Division, Office of Protected Resources, National Marine Fisheries Service.

[FR Doc. 2011-29889 Filed 11-17-11; 8:45 am]

BILLING CODE 3510-22-P